ENVIRONMENTAL PROTECTION AGENCY

[FRL-6707-1]

Internet Availability of Evaluation Report on the Sector Facility Indexing Project and SFIP's Future Expansion

AGENCY: Environmental Protection Agency.

ACTION: Notice of availability of evaluation report and future expansion of the SFIP.

SUMMARY: The Environmental Protection Agency (EPA) is announcing the Internet availability of an evaluation report on the Sector Facility Indexing Project (SFIP). Based upon the evaluation results, the EPA is also announcing the future expansion of the SFIP. The EPA is now working to add to the project a subset of federal facilities. The SFIP is a community-right-to-know and data integration project that currently provides environmental performance data for facilities within five industry sectors. The industry sectors currently profiled within the SFIP are automobile assembly; petroleum refining; pulp manufacturing; iron and steel; and primary smelting and refining of aluminum, copper, lead, and zinc (nonferrous metals). On May 1, 1998, the EPA released the Internet website containing the SFIP data. (See 63 FR 27281, May 18, 1998). The SFIP website is designed as an interactive tool that allows users to customize the information and delve into greater detail to look at information that is too voluminous to include in a hard copy report.

DATES: The SFIP evaluation report is currently available to the public on the Internet. A limited number of hard copies of the report are also now available. EPA's goal is to have the expansion to federal facilities completed and available on the website later this year.

ADDRESSES: The SFIP's data and the evaluation report on the project may be accessed electronically via the Internet at the following address: http://www.epa.gov/oeca/sfi. Requests for a hard copy of the evaluation report may be sent to: SFIP, 55 Wheeler Street, Cambridge, MA 02138. Requests may also be made to the SFIP telephone hotline at: (617) 520-3015.

FOR FURTHER INFORMATION CONTACT: Robert Lischinsky, U.S. Environmental Protection Agency, Office of Compliance (2223-A), 1200 Pennsylvania Avenue, NW, Washington, DC 20460; telephone: (202) 564-2628, fax: (202)564-0050; e-mail: lischinsky.robert@epa.gov

SUPPLEMENTARY INFORMATION: When EPA launched the SFIP website (www.epa.gov/oeca/sfi) in May 1998, the Agency was committed to monitoring and evaluating the progress of this project. Specifically, we wanted to look at SFIP's success in meeting the two goals of providing greater public access to accurate compliance and facility-level information, as well as improving multimedia facility profiling and sector-based analysis.

For the evaluation, EPA obtained input from user groups both inside and outside the Agency, including the EPA Regions, States, industry, environmental groups, and trade associations. The results have been positive. Extensively used, SFIP has enhanced public access to and knowledge of the environmental performance of individual, regulated facilities. The project has improved multimedia facility profiling; provided useful data in a “user-friendly” website; improved data quality in underlying databases; and served as an incentive to achieve and maintain compliance.

The evaluation also identified widespread interest for an expansion of SFIP that would build upon its success and make the project an even more valuable analytical tool. Thus, EPA is announcing that the SFIP will be expanding to include a subset of federal facilities. This expansion will encourage greater accountability on the part of federal facilities, and will allow the public to obtain important environmental information about these facilities located in their communities. EPA is working to arrive at a subset of the federal facility universe that is both manageable and provides useful information. Our goal is to have the expansion to federal facilities completed later this year.

As SFIP expands, we will ensure that we maintain the public's confidence in the integrity of the data. Once again Regions, States and the affected facilities will be given the opportunity to review the data and resolve any data quality issues through a coordinated EPA/State effort prior to release.

Dated: May 17, 2000.
Mamie R. Miller,
Chief, Manufacturing Branch, Manufacturing, Energy & Transportation Division, Office of Compliance.

[FR Doc. 00-13559 Filed 5-30-00; 8:45 am]

BILLING CODE 6560-50-P